DEPARTMENT OF DEFENSE

Office of the Secretary

Meeting of the Defense Department Advisory Committee on Women in the Services (DACOWITS)

AGENCY: Department of Defense.

ACTION: Notice.

SUMMARY: Pursuant to Section 10(a), Public Law 92-463, as amended, notice is hereby given of a forthcoming meeting of the Defense Department Advisory Committee on Women in the Services (DACOWITS). The meeting is open to the public, subject to the availability of space.

DATES: March 4, 2011, from 8 a.m.-4 p.m.

ADDRESSES: Residence Inn Marriott, 550 Army Navy Dr, Arlington, VA 22202.

FOR FURTHER INFORMATION CONTACT: MSgt Robert Bowling, USAF, or DACOWITS, 4000 Defense Pentagon, Room 2C548A, Washington, DC 20301-4000, E-mail: Robert.bowling@osd.mil, telephone (703) 697-2122, fax (703) 614-6233.

SUPPLEMENTARY INFORMATION:

Purpose of Meeting: The purpose of the meeting is for the Committee to approve and finalize the 2010 report. The Committee will review and discuss 2011 study topics, protocols, and installation visits. The Committee will also receive a briefing from Health Affairs on Reserve and National Guard wellness. Additionally the Army and Air Force will give an update on their sexual assault prevention programs.

Meeting Agenda:

Friday, March 4, 2011, 8 a.m.-4 p.m.

—Welcome, introductions, and announcements.

—Finalize the 2010 report.

—Receive briefing from Health Affairs.

—Finalize 2011 study topics, protocols, and installation visits.

—Receive briefings from Army & Air Force on sexual assault prevention programs.

—Public Forum.

Written Statements: Interested persons may submit a written statement for consideration by the Defense Department Advisory Committee on Women in the Services. Individuals submitting a written statement must submit their statement to the Point of Contact listed above at the address detailed above NLT 5 p.m., Wednesday, March 2, 2011. If a written statement is not received by Wednesday, March 2, 2011, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services.

Oral Statements: If members of the public are interested in making an oral statement, a written statement must be submitted as above. After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Friday March 4, 2011 from 3 p.m. to 4 p.m. before the full Committee. Number of oral presentations to be made will depend on the number of requests received from members of the public.

Dated: February 8, 2011.
Morgan F. Park,
Alternate OSD Federal Register Liaison Officer, Department of Defense.

[FR Doc. 2011-3202 Filed 2-11-11; 8:45 am]

BILLING CODE 5001-06-P